DEPARTMENT OF TRANSPORTATION

Coast Guard

33 CFR Part 117

[CGD01-01-213]

Drawbridge Operation Regulations: Mianus River, CT

AGENCY: Coast Guard, DOT.

ACTION: Notice of temporary deviation from regulations.

SUMMARY: The Commander, First Coast Guard District, has issued a temporary deviation from the drawbridge operation regulations for the Metro North Bridge, mile 1.0, across the Mianus River at Greenwich, Connecticut. This temporary deviation will allow the bridge to remain in the closed position during three periods: November 26, through December 6, 2001; December 10, through December 21, 2001; and January 7, 2002 through January 16, 2002. This temporary deviation is necessary to facilitate structural repairs at the bridge.

DATES: This deviation is effective from November 26, 2001 through January 16, 2002.

FOR FURTHER INFORMATION CONTACT: Joseph Schmied, Project Officer, First Coast Guard District, at (212) 668-7195.

SUPPLEMENTARY INFORMATION: The Metro North Bridge has a vertical clearance in the closed position of 20 feet at mean high water and 27 feet at mean low water. The existing regulations are listed at 33 CFR 117.209.

The bridge owner, Metro North Railroad, has requested a temporary deviation from the drawbridge operating regulations to facilitate necessary structural maintenance at the bridge. The nature of the required structural repairs will require the bridge to be closed to navigation during the implementation of this work.

This deviation to the operating regulations will allow the bridge to remain in the closed position from 6 a.m. on November 26, 2001 through 7 p.m. on December 6, 2001; from 6 a.m. on December 10, 2001 through 7 p.m. on December 21, 2001; and from 6 a.m. on January 7, 2002 through 7 p.m. on January 16, 2002.

This deviation from the operating regulations is authorized under 33 CFR 117.35, and will be performed with all due speed in order to return the bridge to normal operation as soon as possible.

Dated: November 26, 2001.
G.N. Naccara,
Rear Admiral, U.S. Coast Guard, Commander, First Coast Guard District.

[FR Doc. 01-30021 Filed 12-3-01; 8:45 am]

BILLING CODE 4910-15-P